DEPARTMENT OF COMMERCE

National Institute of Standards and Technology

[Docket No. 120912441-2441-01]

National Cybersecurity Center of Excellence

AGENCY: National Institute of Standards and Technology, Department of Commerce.

ACTION: Notice; correction.

SUMMARY: The National Institute of Standards and Technology (NIST) Information Technology Laboratory (ITL) invites interested U.S. companies to submit letters of interest in collaborating with NIST/ITL on an ongoing basis in the National Cybersecurity Center of Excellence (NCCoE) through partnerships called “National Cybersecurity Excellence Partnerships” (NCEPs). NIST previously published a notice for this partnership on October 19, 2012. This notice repeats the same information contained in the previous notice but contains updated contact and mailing information.

DATES: Letters of interest will be accepted on an ongoing basis. However, if NIST determines that letters of interest will no longer be accepted, NIST will publish the last date when letters will be accepted in a Federal Register notice.

ADDRESSES: Interested U.S. companies should send letters via email to nccoe-ncep-team@nist.gov; or via hardcopy to NCCoE, National Institute of Standards and Technology; 9700 Great Seneca Highway, Rockville, MD 20850.

FOR FURTHER INFORMATION CONTACT: Natalia Martin via email at nccoe-ncep-team@nist.gov; or via telephone at 301-975-0225. For additional information on NCCoE governance, business processes, and operational structure, visit the NCCoE website, at https://www.nccoe.nist.gov.

SUPPLEMENTARY INFORMATION: The NCCoE, hosted by NIST, is a public-private collaboration for accelerating the widespread adoption of integrated cybersecurity tools and technologies. The NCCoE's mission is to bring together experts from industry, government, and academia under one roof to develop practical, interoperable cybersecurity approaches that address the real world needs of complex Information Technology (IT) systems. By accelerating dissemination and use of these integrated tools and technologies for protecting Information Technology (IT)) and Operational Technology (OT) assets to help organizations improve their cybersecurity in the context of their missions and business objectives, the NCCoE strives to cultivate trust in U.S. IT communications, data, and storage systems, lower risk for companies and individuals in the use of IT systems, and encourage development of innovative, job-creating cybersecurity products and services.

As part of the NCCoE initiative, NIST/ITL intends to enter into partnerships, called “National Cybersecurity Excellence Partnerships” (NCEPs), with U.S. companies to collaborate on an ongoing basis in the NCCoE. Collaboration agreements will be based upon the statutory technology transfer authorities available to NIST, including the Federal Technology Transfer Act, 15 U.S.C. 3710a. NIST/ITL intends that NCEP collaborators will co-locate with ITL at the NCCoE at 9700 Great Seneca Highway Rockville, MD 20850 and will contribute to the development of the intellectual and physical infrastructure needed to support collaborative efforts among NIST and many sources of security capabilities, including users and vendors of products and services, on holistic approaches to resolve cybersecurity challenges.

Approaches to resolving cybersecurity challenges will be addressed at the NCCoE through individual projects; projects developed by NCCoE will incorporate the IT security needs of specific communities or sectors. Examples of candidate sectors include health care, finance and utilities. The cybersecurity challenges that will be the subject of the project will be selected by NIST through workshops with input from broad groups of stakeholders, as well as public feedback provided via collaborative internet participation. Collaborative participation may be accessed via links from http://nccoe.nist.gov/. Opportunities to participate in individual projects will be announced in the Federal Register and will be open to the public on a first-come, first-served basis. NIST/ITL envisions that the NCCoE will be capable of supporting multiple simultaneous applied cybersecurity projects in various stages. NCEP collaborators will neither be obligated to participate in a given project, nor will they be guaranteed participation in a given project, but they will be given priority for participation in each project only for their resources that are already onsite at the NCCoE and for components that are interoperable with those onsite resources, within the process defined for that project as announced in the Federal Register.

NCEP collaborators selected to participate in a given project may contribute, but will not be required to contribute, resources in addition to those contributed through their NCEP agreement. However, priority participation in a project will be granted only for resources relevant to the projects that are already onsite in the NCCoE and components that are interoperable with those onsite resources. Through their collaboration agreements with NIST/ITL, NCEP collaborators will agree that resources contributed to the NCCoE initiative will be available to all project participants, as determined by NIST. Through individual project consortium agreements, all participants, including NIST, NCEP collaborators and others, will agree that successful solutions to a NCCoE project challenge will be thoroughly documented and shared publicly, in order to encourage the rapid adoption of comprehensive cybersecurity templates and approaches that support automated and trustworthy e-government and e-commerce.

Each NCEP will be between NIST and a U.S. company. It is anticipated that NCEP agreements will be established for a three-year period, with renewal subject to the requirements and interests of the collaborator and NIST/ITL.

Interested U.S. companies are invited to submit a letter of interest that contains sufficient information for NIST/ITL to objectively determine whether the proposed collaboration is feasible, relevant to the NCCoE mission to foster the rapid adoption and broad deployment of integrated cybersecurity tools and techniques that enhance consumer confidence in U.S. information systems, and has potential to advance the state of cybersecurity practice. Companies whose proposed collaborations are determined by NIST/ITL to meet all three criteria will be invited to enter into negotiations for a cooperative research and development agreement (CRADA) with NIST/ITL. Companies whose letters of interest contain insufficient information for NIST/ITL to make a determination as to whether the proposed collaboration meets all three criteria, and companies whose proposed collaboration is determined by NIST/ITL not to meet all three criteria, will be notified in writing by NIST/ITL.

Alicia Chambers,
NIST Executive Secretariat.

[FR Doc. 2021-27089 Filed 12-14-21; 8:45 am]

BILLING CODE 3510-13-P